DEPARTMENT OF THE INTERIOR

Bureau of Land Management

[BLM_OR_FRN_MO4500179519]

Public Meetings for the John Day-Snake Resource Advisory Council, Oregon

AGENCY: Bureau of Land Management, Interior.

ACTION: Notice of public meetings.

SUMMARY: In accordance with the Federal Land Policy and Management Act of 1976 and the Federal Advisory Committee Act of 1972, the U.S. Department of the Interior, Bureau of Land Management's (BLM) John Day-Snake Resource Advisory Council (RAC) and Planning Subcommittee will meet as follows.

DATES: The John Day-Snake RAC's Planning Subcommittee will meet virtually on Wednesday, September 4, 2024, from 5:30 p.m. to 7:00 p.m. Pacific Time (PT) via the Zoom-for- Government platform. The John Day-Snake RAC will meet on Wednesday, September 25 in Enterprise, Oregon from 9 a.m. to 4:30 p.m. PT and participate in a field tour on Thursday, September 26, 2024, to the Wallowa Lake Dam from 9 a.m. to noon PT. A virtual participation option will be available for the September 25 meeting.

Thirty-minute public comment periods will be held on Wednesday, September 4 at 6:30 p.m. PT; and on Wednesday, September 25 at noon PT.

ADDRESSES: The September 25 meeting will be held, and the field tour will commence, at the Wallowa County Fairgrounds, 668 NW 1st St., Enterprise, OR 97828. Final agendas for each meeting and contact information regarding Zoom participation details will be published on the RAC web page at least 10 days in advance of the meetings at https://www.blm.gov/get-involved/resource-advisory-council/near-you/oregon-washington/john-day-rac.

Comments to the RAC can be mailed to: BLM Vale District, Attn. Shane DeForest, 100 Oregon St., Vale, OR 97918.

FOR FURTHER INFORMATION CONTACT: Larisa Bogardus, Public Affairs Specialist, 3100 H. St., Baker City, OR 97814; telephone: 541-523-1407; email: lbogardus@blm.gov. Individuals in the United States who are deaf, blind, hard of hearing, or have a speech disability may dial 711 (TTY, TDD, or TeleBraille) to access telecommunications relay services. Individuals outside the United States should use the relay services offered within their countries to make international calls to the point-of-contact in the United States.

SUPPLEMENTARY INFORMATION: The 15-member RAC is chartered and members are appointed by the Secretary of the Interior. Its diverse perspectives are represented in commodity, conservation, and local interests. The RAC provides advice to BLM and, as needed, to U.S. Forest Service resource managers regarding management plans and proposed resource actions on public lands in the John Day-Snake area. All meetings are open to the public in their entirety. Information to be distributed to the RAC must be provided to its members prior to the start of each meeting.

The September 4 Subcommittee meeting will focus on compiling information, conducting research, and preparing findings to present to the RAC for its consideration and for the formation of formal recommendations on the proposed business plan and fee proposal for Prineville BLM's Priest Hole Recreation Area.

The September 25 meeting will include a presentation on the Subcommittee's research, findings, and recommendations on the proposed business plan and fee proposal. Standing agenda items include management of energy and minerals, timber, rangeland and grazing, commercial and dispersed recreation, wildland fire and fuels, wild horses and burros; agency updates from the Vale and Prineville BLM Districts and the Wallowa-Whitman, Umatilla, Malheur, Ochoco, and Deschutes National Forests; and any other business that may reasonably come before the RAC. The meetings are open to the public, and public comments will be held on Wednesday, September 4 at 6:30 p.m. and Wednesday, September 25 at noon PT. Depending on the number of persons wishing to comment and the time available, time allotted for individual oral comments may be limited.

The September 26 field tour is to the Wallowa Lake Irrigation District's Wallowa Lake Dam. Members of the public who wish to participate in the field tour must provide their own transportation and meals. The Designated Federal Officer will attend the meeting, take minutes, and publish the minutes on the RAC web page at https://www.blm.gov/get-involved/resource-advisory-council/near-you/oregon-washington/john-day-rac.

For sign language interpreter services, assistive listening devices, language translation services, or other reasonable accommodations, please contact the person listed in the FOR FURTHER INFORMATION CONTACT section 7 business days before the meeting to ensure there is sufficient time to process the request. The Department of the Interior manages accommodation requests on a case-by-case basis.

The public may send written comments to the RAC in response to material presented (see ADDRESSES).

Before including your address, phone number, email address, or other personal identifying information in your comments, please be aware that your entire comment—including your personal identifying information—may be made publicly available at any time. While you can ask us in your comment to withhold your personal identifying information from public review, we cannot guarantee we will be able to do so.

(Authority: 43 CFR 1784.4)

Shane DeForest,
Vale District Manager.

[FR Doc. 2024-13435 Filed 6-18-24; 8:45 am]

BILLING CODE 4331-24-P